DEPARTMENT OF COMMERCE

National Oceanic and Atmospheric Administration

RIN 0648-XE987

Mid-Atlantic Fishery Management Council (MAFMC); Meeting

AGENCY: National Marine Fisheries Service (NMFS), National Oceanic and Atmospheric Administration (NOAA), Commerce.

ACTION: Notice of public hearing meetings.

SUMMARY: The Mid-Atlantic Fishery Management Council will hold three public hearings in November 2016 to solicit public input on a request by the State of New Jersey to designate 13 of its artificial reef sites located in federal waters as Special Management Zones (SMZ). The Council is also soliciting written comments on the NJ SMZ request through 11:59 p.m. on Friday November 25, 2016.

DATES: The public hearings will begin at 7 p.m. on November 15, 2016 and end at 10 p.m. on November 17, 2016, to view the agenda see SUPPLEMENTARY INFORMATION.

ADDRESSES: The Council will hold three public hearings, the dates, times, and locations of which are listed below.

1. Tuesday November 15, 2016, from 7 p.m. to 9:30 p.m., Kingsborough Community College, 2001 Oriental Blvd., Brooklyn, NY 11235, Room M239 of the Marina and Academic Center (The Lighthouse).

2. Wednesday November 16, 2016, from 7 p.m. to 10 p.m., Clarion Hotel & Conference Center, 815 Route 37 West, Toms River, NJ 08755.

3. Thursday November 17, 2016, 7 p.m. to 10 p.m., Congress Hall, 200 Congress Place, Cape May, NJ 08204.

Addresses for written comments: Written comments may be sent through mail, email, or fax through 11:59 p.m. on Friday November 25, 2016. Comments may be mailed to: Dr. Chris Moore, Executive Director, Mid-Atlantic Fishery Management Council, 800 North State Street, Suite 201, Dover, DE 19901. Comments may be faxed to: Dr. Chris Moore, Executive Director, Mid-Atlantic Fishery Management Council at fax number 302-674-5399. Comments may be emailed to Richard Seagraves, Senior Scientist, at rseagraves@mafmc.org. If sending comments through the mail, please write “NJ SMZ Request” on the outside of the envelope. If sending comments through email or fax, please write “NJ SMZ Request comments” in the subject line.

Council address: Mid-Atlantic Fishery Management Council, 800 N. State Street, Suite 201, Dover, DE 19901; telephone: 302-674-2331 or on their Web site, at www.mafmc.org.

FOR FURTHER INFORMATION CONTACT: Christopher M. Moore, Ph.D., Executive Director, Mid-Atlantic Fishery Management Council, telephone: 302-526-5255.

SUPPLEMENTARY INFORMATION:

Agenda

In the November 2015, the New Jersey Department of Environmental Protection (DEP) petitioned the Mid-Atlantic Council to designate 13 artificial reef sites as SMZ's in the EEZ under provisions of Amendment 9 to the Summer Flounder, Scup and Black Sea Bass Fishery Management Plan. The justification for this request was based on the need to ameliorate gear conflicts between hook and line fishermen and fixed pot/trap gear at those sites. The Council received a report from the SMZ Monitoring Team (MT) at its October 2016 meeting which evaluated the NJDEP request relative to the following factors: (1) Fairness and equity; (2) promotion of conservation; (3) avoidance of excessive shares; (4) consistency with the objectives of Amendment 9, the Magnuson-Stevens Act, and other applicable law; (5) the natural bottom in and surrounding potential SMZs; and (6) impacts on historical uses. The MT's analysis concluded that the designation of the NJDEP 13 reef sites appears to be compatible with the Magnuson-Stevens Act and other applicable federal law. Based on evaluation of all relevant factors and issues as outlined in Amendment 9, the SMZ Monitoring Team recommended that the Council designate all 13 New Jersey's artificial reefs located in the EEZ as SMZs. The SMZ designation could stipulate that no fishing vessel or person on a fishing vessel may fish in the 13 New Jersey Special Management Zones with any gear except hook and line and spear fishing (including the taking of fish by hand). The MT analysis indicated that commercial fishing vessels deploying pot/trap gear off the coast of New Jersey would likely face minimal to no losses in ex-vessel revenue if the artificial reefs are designated as SMZs. The Council discussed the MT's recommendations and decided to hold public hearings in November 2016 in NJ and NY to solicit public comments on the NJ SMZ request. The Council is seeking public comment on NJ's SMZ request and is scheduled to make a decision relative to NJ's request at its December 2016 meeting in Annapolis, MD.

Special Accommodations

These meetings are physically accessible to people with disabilities. Requests for sign language interpretation or other auxiliary aid should be directed to M. Jan Saunders, 302-526-5251, at least 5 business days prior to the meeting date.

Authority: 16 U.S.C. 1801 et seq.

Dated: October 21, 2016.
Tracey L. Thompson,
Acting Director, Office of Sustainable Fisheries, National Marine Fisheries Service.

[FR Doc. 2016-25849 Filed 10-25-16; 8:45 am]

BILLING CODE 3510-22-P